COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must Be Received On or Before: 6/1/2009.

ADDRESSES: Committee for Purchase From People Who Are Blind or Severely Disabled, Jefferson Plaza 2, Suite 10800, 1421 Jefferson Davis Highway, Arlington, Virginia 22202-3259.

For Further Information or To Submit Comments Contact: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Advanced Combat Shirt

NSN: 8415-01-548-7187

NSN: 8415-01-548-7201

NSN: 8415-01-548-7206

NSN: 8415-01-548-7209

NSN: 8415-01-548-7215

NSN: 8415-01-548-7232

NSN: 8415-01-548-7236

NPA: Winston-Salem Industries for the Blind, Winston-Salem, NC.

NPA: San Antonio Lighthouse for the Blind, San Antonio, TX.

Contracting Activity: Dept. of the Army, XR W2DF RDECOM ACQ CTR NATICK.

Services

Service Type/Location: Custodial Services, Charlotte VA Clinic, 8601 University East Drive, Charlotte, NC.

NPA: OE Enterprises, Inc., Hillsborough, NC.

Contracting Activity: Department of Veterans Affairs.

Service Type/Location: Custodial Services, Military Entrance Processing Station-Camp Dodge, Building S-71, Johnston, IA.

NPA: Genesis Development, Jefferson, IA.

Contracting Activity: Dept. of the Army, XR W6BB ACA KNOX.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products are proposed for deletion from the Procurement List:

Products

Protective Worksuit, General Purpose

NSN: 8410-00-NSH-0025

NSN: 8410-00-NSH-0026

NSN: 8410-00-NSH-0027

NSN: 8410-00-NSH-0028

NSN: 8410-00-NSH-0029

NSN: 8410-00-NSH-0030

NSN: 8410-00-NSH-0031

NSN: 8410-00-NSH-0032

NSN: 8410-00-NSH-0125

NSN: 8410-00-NSH-0126

NSN: 8410-00-NSH-0127

NSN: 8410-00-NSH-0128

NSN: 8410-00-NSH-0129

NSN: 8410-00-NSH-0130

NSN: 8410-00-NSH-0131

NSN: 8410-00-NSH-0132

NSN: 8410-00-NSH-0225

NSN: 8410-00-NSH-0226

NSN: 8410-00-NSH-0227

NSN: 8410-00-NSH-0228

NSN: 8410-00-NSH-0229

NSN: 8410-00-NSH-0230

NSN: 8410-00-NSH-0231

NSN: 8410-00-NSH-0232

NSN: 8410-00-NSH-0325

NSN: 8410-00-NSH-0326

NSN: 8410-00-NSH-0327

NSN: 8410-00-NSH-0328

NSN: 8410-00-NSH-0329

NSN: 8410-00-NSH-0330

NSN: 8410-00-NSH-0331

NSN: 8410-00-NSH-0332

NSN: 8410-00-NSH-0425

NSN: 8410-00-NSH-0426

NSN: 8410-00-NSH-0427

NSN: 8410-00-NSH-0428

NSN: 8410-00-NSH-0429

NSN: 8410-00-NSH-0430

NSN: 8410-00-NSH-0431

NSN: 8410-00-NSH-0432

NSN: 8410-00-NSH-0532

NSN: 8410-00-NSH-0632

NSN: 8410-00-NSH-0732

NSN: 8410-00-NSH-0832

NSN: 8410-00-NSH-0932

NSN: 8410-00-NSH-1032

NSN: 8410-00-NSH-1132

NSN: 8410-00-NSH-1232

NSN: 8410-00-NSH-1332

NSN: 8410-00-NSH-1432

NSN: 8410-00-NSH-1532

NSN: 8410-00-NSH-1632

NSN: 8410-00-NSH-1732

NSN: 8410-00-NSH-1832

NSN: 8410-00-NSH-1932

NSN: 8410-00-NSH-2032

NSN: 8410-00-NSH-2132

NSN: 8410-00-NSH-2232

NSN: 8410-00-NSH-2332

NSN: 8410-00-NSH-2432

NSN: 8410-00-NSH-2532

NSN: 8410-00-NSH-2632

NSN: 8410-00-NSH-2732

NSN: 8410-00-NSH-2832

NSN: 8410-00-NSH-2932

NSN: 8410-00-NSH-3032

NSN: 8410-00-NSH-3132

NSN: 8410-00-NSH-3232

NSN: 8410-00-NSH-3332

NSN: 8410-00-NSH-3432

NSN: 8410-00-NSH-3532

NSN: 8410-00-NSH-3632

NSN: 8410-00-NSH-3732

NSN: 8410-00-NSH-3832

NSN: 8410-00-NSH-3932

NSN: 8410-00-NSH-4032

NSN: 8410-00-NSH-4132

NSN: 8410-00-NSH-4232

NSN: 8410-00-NSH-4332

NSN: 8410-00-NSH-4432

NSN: 8410-00-NSH-4532

NSN: 8410-00-NSH-4632

NSN: 8410-00-NSH-4732

NSN: 8410-00-NSH-4832

NSN: 8410-00-NSH-4932

NSN: 8410-00-NSH-5032

NSN: 8410-00-NSH-5132

NSN: 8410-00-NSH-5232

NSN: 8410-00-NSH-5332

NSN: 8410-00-NSH-5432

NSN: 8410-00-NSH-5532

NSN: 8410-00-NSH-5632

NSN: 8410-00-NSH-5732

NSN: 8410-00-NSH-5832

NSN: 8410-00-NSH-5932

NPA: Association for Retarded Citizens of Baldwin County, Inc., Loxley, AL.

Contracting Activity: GSA/FAS Southwest Supply Center (QSDAC), Fort Worth, TX.

Barry S. Lineback,
Director, Business Operations.

[FR Doc. E9-10006 Filed 4-30-09; 8:45 am]

BILLING CODE 6353-01-P